INTERNATIONAL TRADE COMMISSION

[Investigation No. 731-TA-149 (Third Review)]

Barium Chloride From China

AGENCY: United States International Trade Commission.

ACTION: Revised schedule for the subject review.

DATES: Effective Date: April 9, 2010.

FOR FURTHER INFORMATION CONTACT: Amy Sherman (202-205-3289), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On November 16, 2009, the Commission established a schedule for the conduct of this review (74 FR 62587, November 30, 2010).

Subsequently, counsel for domestic interested party filed a request to appear at the hearing or, in the alternative, for consideration of cancellation of the hearing. Counsel indicated a willingness to submit written testimony and responses to any questions by a date to be specified by the Commission in lieu of an actual hearing. To date, no other party has filed a request to appear at the hearing. Consequently, the public hearing in connection with the review, scheduled to begin at 9:30 a.m. on April 15, 2010, at the U.S. International Trade Commission Building, is cancelled.

The Commission has determined to accept the offer to submit written testimony in lieu of an oral public hearing presentation. Written testimony shall be filed with the Commission by the close of business on Thursday, April 15, 2010. The party is expected to respond to the Commission's written questions in its post-hearing brief, which is due to be filed on April 26, 2010. Additional changes to the schedule are as follows: The final staff report in the review will be placed in the nonpublic record on May 10, 2010, and a public version will be issued thereafter; the Commission will make available to parties all information on which they have not had an opportunity to comment on May 17, 2010; and parties may submit final comments on this information on or before May 19, 2010.

For further information concerning this investigation see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

Dated: Issued: April 9, 2010.
By order of the Commission.
William R. Bishop,
Acting Secretary to the Commission.

[FR Doc. 2010-9030 Filed 4-19-10; 8:45 am]

BILLING CODE P